DEPARTMENT OF COMMERCE

International Trade Administration

[A-421-817]

Melamine From the Netherlands: Final Affirmative Determination of Sales at Less Than Fair Value

AGENCY: Enforcement and Compliance, International Trade Administration, Department of Commerce.

SUMMARY: The U.S. Department of Commerce (Commerce) determines that melamine from the Netherlands is being, or is likely to be, sold in the United States at less than fair value (LTFV). The period of investigation (POI) is January 1, 2023, through December 31, 2023.

DATES: Applicable December 9, 2024.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

On September 24, 2024, Commerce published in the Federal Register its preliminary determination in the LTFV investigation of melamine from the Netherlands and invited interested parties to comment.¹ No interested party submitted comments. Accordingly, the final determination remains unchanged from the Preliminary Determination and no decision memoranda accompany this notice. The Preliminary Determination is hereby adopted in this final determination. Commerce conducted this LTFV investigation in accordance with section 735 of the Tariff Act of 1930, as amended (the Act).

¹ See Melamine from the Netherlands: Preliminary Affirmative Determination of Sales at Less Than Fair Value, 89 FR 77829 (September 24, 2024) (Preliminary Determination), and accompanying Preliminary Decision Memorandum (PDM).

Scope of the Investigation

The product covered by this investigation is melamine from the Netherlands. For a complete description of the scope of this investigation, see the appendix to this notice.

Scope Comments

We received no comments from interested parties on the scope of the investigation as it appeared in the Preliminary Determination. Therefore, we made no changes to the scope of the investigation.

Verification

As stated in the Preliminary Determination, after being selected as the sole mandatory respondent, OCI Nitrogen B.V. (OCI Nitrogen), discontinued its participation in this investigation. Accordingly, Commerce based the Preliminary Determination entirely on the application of facts available with adverse inferences (AFA), and did not conduct verification under section 782(i) of the Act.

Use of Adverse Facts Available

As discussed in the Preliminary Determination, we assigned OCI Nitrogen an estimated weighted-average dumping margin based entirely on AFA, pursuant to sections 776(a) and (b) of Act.² There is no new information on the record that would cause us to revisit our decision in the Preliminary Determination. Accordingly, for this final determination, we continue to find that the application of AFA pursuant to sections 776(a) and (b) of the Act is warranted with respect to OCI Nitrogen.

² Id., 89 FR 77830.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

In the Preliminary Determination, we assigned an estimated weighted-average dumping margin of 53.50 percent as the all-others rate based on a simple average of the dumping margins alleged in the petition, pursuant to section 735(c)(5)(B) of the Act.³ As noted above, we received no comments on our Preliminary Determination; thus, we continue to assign an estimated weighted-average dumping margin of 53.50 percent to all other producers and exporters for this final determination.

³ Id.

Final Determination

The final estimated weighted-average dumping margins are as follows:

Exporter or producer | Weighted- average dumping margin (percent)
OCI Nitrogen B.V | * 72.16
All Others | 53.50
* Rate based on facts available with adverse inferences.

Disclosure

Normally, Commerce will disclose to the parties in a proceeding the calculations performed in connection with a final determination within five days of any public announcement or, if there is no public announcement, within five days of the date of publication of the notice of final determination in the Federal Register, in accordance with 19 CFR 351.224(b). However, because Commerce received no comments on the Preliminary Determination, it is adopting the Preliminary Determination as the final determination in this investigation. Consequently, there are no new calculations to disclose.

Suspension of Liquidation

In accordance with section 735(c)(4) of the Act, we will instruct U.S. Customs and Border Protection (CBP) to continue to suspend liquidation of subject merchandise, as described in the appendix to this notice, entered, or withdrawn from warehouse, for consumption, on or after September 24, 2024, which is the date of publication of the affirmative Preliminary Determination in the Federal Register.

Pursuant to section 735(c)(1)(B)(ii) of the Act and 19 CFR 351.210(d), where appropriate, Commerce will instruct CBP to require a cash deposit equal to the estimated weighted-average dumping margin or the estimated all-others rate as follows: (1) the cash deposit rate for merchandise produced or exported by OCI Nitrogen will be equal to OCI Nitrogen's company-specific estimated weighted-average dumping margin determined in this final determination; (2) the cash deposit rate for all other producers and exporters will be equal to the all-others estimated weighted-average dumping margin as determined in the final determination. These suspension of liquidation instructions and cash deposit requirements will remain in effect until further notice.

U.S. International Trade Commission (ITC) Notification

In accordance with section 735(d) of the Act, we will notify the ITC of the final affirmative determination of sales at LTFV. Because Commerce's final determination is affirmative, in accordance with section 735(b)(2) of the Act, the ITC will make its final determination as to whether the domestic industry in the United States is materially injured, or threatened with material injury, by reason of imports or sales (or the likelihood of sales) for importation of melamine from the Netherlands no later than 45 days after this final determination. If the ITC determines that such injury does not exist, this proceeding will be terminated, and all cash deposits will be refunded, and suspension of liquidation will be lifted. If the ITC determines that material injury, or the threat of material injury, exists, Commerce will issue an antidumping order directing CBP to assess, upon further instruction by Commerce, antidumping duties on all imports of the subject merchandise, entered, or withdrawn from warehouse, for consumption on or after the effective date of the suspension of liquidation, as discussed above in the “Suspension of Liquidation” section.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: December 2, 2024.
Abdelali Elouaradia,
Deputy Assistant Secretary for Enforcement and Compliance.

Appendix

Scope of the Investigation

The merchandise subject to this investigation is melamine (Chemical Abstracts Service (CAS) registry number 108-78-01, molecular formula C3 H6 N6). Melamine is also known as 2,4,6-triamino-striazine; 1,3,5-Triazine-2,4,6- triamine; Cyanurotriamide; Cyanurotriamine; Cyanuramide; and by various brand names. Melamine is a crystalline powder or granule. All melamine is covered by the scope of this investigation irrespective of purity, particle size, or physical form. Melamine that has been blended with other products is included within this scope when such blends include constituent parts that have been intermingled, but that have not been chemically reacted with each other to produce a different product. For such blends, only the melamine component of the mixture is covered by the scope of this investigation. Melamine that is otherwise subject to this investigation is not excluded when commingled with melamine from sources not subject to this investigation. Only the subject component of such commingled products is covered by the scope of this investigation.

The subject merchandise is provided for in subheading 2933.61.0000 of the Harmonized Tariff Schedule of the United States (HTSUS). Although the HTSUS subheading and CAS registry number are provided for convenience and customs purposes, the written description of the scope is dispositive.

[FR Doc. 2024-28795 Filed 12-6-24; 8:45 am]

BILLING CODE 3510-DS-P